DEPARTMENT OF THE INTERIOR

Minerals Management Service

30 CFR Part 250

RIN 1010-AC47

Oil and Gas and Sulphur Operations in the Outer Continental Shelf—Plans and Information

Correction

In rule document 05-16764 beginning on page 51478, in the issue of Tuesday, August 30, 2005, make the following correction:

§250.235 [Corrected]

On page 51509, in the first column, after § 250.235(b)(2), in the next line, paragraph designation “(a)” should read “(c)”.

[FR Doc. C5-16764 Filed 3-9-06; 8:45 am]

BILLING CODE 1505-01-D

OFFICE OF PERSONNEL MANAGEMENT

5 CFR Part 890

RIN: 32306-AK95

Federal Employees Health Benefits Program; Discontinuance of Health Plan in an Emergency

Correction

Proposed Rule document 06-2081 was inadvertently published in the Rules and Regulations section in the issue of Tuesday, March 7, 2006, appearing on page 11287. It should have appeared in the Proposed Rules section.

[FR Doc. C6-2081 Filed 3-9-06; 8:45 am]

BILLING CODE 1505-01-D